DEPARTMENT OF TRANSPORTATION

Federal Aviation Administration

14 CFR Part 39

[Docket No. FAA-2014-0561; Directorate Identifier 2014-NE-12-AD; Amendment 39-18407; AD 2016-04-13]

RIN 2120-AA64

Airworthiness Directives; Rolls-Royce plc Turbofan Engines

AGENCY: Federal Aviation Administration (FAA), DOT.

ACTION: Final rule.

SUMMARY: We are superseding airworthiness directive (AD) 2015-04-03 that applies to certain Rolls-Royce plc (RR) RB211 Trent 768-60, 772-60, and 772B-60 turbofan engines. AD 2015-04-03 required inspection of the sealing sleeve on the high-pressure/intermediate-pressure (HP/IP) turbine support internal oil feed tube and removal of those sealing sleeves affected by AD 2015-04-03. This AD requires removal of either the affected sealing sleeve only or both the affected sealing sleeve and the oil feed tube. This AD was prompted by fractures of the HP/IP turbine support internal oil feed tube. We are issuing this AD to prevent failure of the HP/IP turbine support internal oil feed tube, uncontained engine failure, and damage to the airplane.

DATES: This AD is effective April 19, 2016.

The Director of the Federal Register approved the incorporation by reference of certain publications listed in this AD as of April 19, 2016.

ADDRESSES: For service information identified in this AD, contact Rolls-Royce plc, Corporate Communications, P.O. Box 31, Derby, DE24 8BJ, United Kingdom; phone: 011-44-1332-242424; fax: 011-44-1332-249936; email: http://www.rolls-royce.com/contact/civil_team.jsp; Internet: https://customers.rolls-royce.com/public/rollsroycecare. You may view this service information at the FAA, Engine & Propeller Directorate, 1200 District Avenue, Burlington, MA. For information on the availability of this material at the FAA, call 781-238-7125. It is also available on the Internet at http://www.regulations.gov by searching for and locating Docket No. FAA-2014-0561.

Examining the AD Docket

You may examine the AD docket on the Internet at http://www.regulations.gov by searching for and locating Docket No. FAA-2014-0561; or in person at the Docket Management Facility between 9 a.m. and 5 p.m., Monday through Friday, except Federal holidays. The AD docket contains this AD, the mandatory continuing airworthiness information, regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Philip Haberlen, Aerospace Engineer, Engine Certification Office, FAA, Engine & Propeller Directorate, 1200 District Avenue, Burlington, MA 01803; phone: 781-238-7770; fax: 781-238-7199; email: philip.haberlen@faa.gov.

SUPPLEMENTARY INFORMATION:

Discussion

We issued a notice of proposed rulemaking (NPRM) to amend 14 CFR part 39 to supersede AD 2015-04-03, Amendment 39-18105 (80 FR 9380, February 23, 2015), (“AD 2015-04-03”). AD 2015-04-03 applied to the specified products. The NPRM published in the Federal Register on November 10, 2015 (80 FR 69625). The NPRM proposed to require removal of either the affected sealing sleeve only or both the affected sealing sleeve and the oil feed tube.

Comments

We gave the public the opportunity to participate in developing this AD. We considered the comment received. The commenter supports the NPRM (80 FR 69625, November 10, 2015).

Conclusion

We reviewed the available data, including the comment received, and determined that air safety and the public interest require adopting this AD as proposed.

Related Service Information Under1 CFR Part 51

RR has issued RR Alert Non-Modification Service Bulletin (NMSB) No. RB.211-72-AJ035, Revision 2, dated August 10, 2015 and RR Service Bulletin (SB) No. RB.211-72-H754, including the Supplement, Revision 1, dated July 29, 2015. The Alert NMSB No. RB.211-72-AJ035, Revision 2, dated August 10, 2015, provides guidance on identification and replacement of the sealing sleeve, part number (P/N) FW15003. The SB No. RB.211-72-H754, including the Supplement, Revision 1, dated July 29, 2015, provides information on the replacement of the sealing sleeve, P/N FW15003, and oil feed tube, P/N FW14193, with a sealing sleeve, P/N KH28323 and oil feed tube, P/N KH28324. This service information is reasonably available because the interested parties have access to it through their normal course of business or by the means identified in the ADDRESSES section of this AD.

Costs of Compliance

We estimate that this AD affects 58 engines installed on airplanes of U.S. registry. We also estimate that it will take about 1.2 hours per engine to comply with this AD. The average labor rate is $85 per hour. Required parts cost about $5,850 per engine. Based on these figures, we estimate the cost of this AD on U.S. operators to be $345,216.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2015-04-03, Amendment 39-18105 (80 FR 9380, February 23, 2015) (“AD 2015-04-03”), and adding the following new AD:

2016-04-13 Rolls-Royce plc: Amendment 39-18407; Docket No. FAA-2014-0561; Directorate Identifier 2014-NE-12-AD.

(a) Effective Date

This AD is effective April 19, 2016.

(b) Affected ADs

This AD supersedes AD 2015-04-03.

(c) Applicability

This AD applies to Rolls-Royce plc (RR) RB211 Trent 768-60, 772-60, and 772B-60 turbofan engines, all serial numbers, except those engines:

(1) That have had Modification 72-H754 applied in production, or

(2) that have been modified in accordance with RR Service Bulletin (SB) No. RB.211-72-H754, including the Supplement, Revision 1, dated July 29, 2015 or initial issue dated October 1, 2014; or

(3) with sealing sleeve, part number (P/N) FW15003, with markings 102013, 112013, or 102013L.

(d) Unsafe Condition

This AD was prompted by fractures of the high-pressure/intermediate pressure (HP/IP) turbine support internal oil feed tube. We are issuing this AD to prevent failure of the HP/IP turbine support internal oil feed tube, uncontained engine failure, and damage to the airplane.

(e) Compliance

Comply with this AD within the compliance times specified, unless already done.

(1) If sealing sleeve, P/N FW15003, is installed without markings 102013, 112013, or 102013L, or if the markings cannot be sufficiently identified, then within 1,600 flight cycles or 24 months after the effective date of this AD, whichever occurs first:

(i) Remove the affected sealing sleeve, P/N FW15003, and replace it with a part eligible for installation. Use paragraph 3.A.(4)(b) of RR Alert Non-Modification Service Bulletin No. RB.211-72-AJ035, Revision 2, dated August 10, 2015, to perform the part replacement, or,

(ii) Remove the affected sealing sleeve, P/N FW15003, and the oil feed tube, P/N FW14193, and replace with parts eligible for installation. Use paragraph 3.B. or 3.C., as appropriate, of RR SB No. RB.211-72-H754, including the Supplement, Revision 1, dated July 29, 2015, to perform the parts replacement.

(2) Reserved.

(f) Alternative Methods of Compliance (AMOCs)

The Manager, Engine Certification Office, FAA, may approve AMOCs to this AD. Use the procedures found in 14 CFR 39.19 to make your request. You may email your request to: ANE-AD-AMOC@faa.gov.

(g) Related Information

(1) For more information about this AD, contact Philip Haberlen, Aerospace Engineer, Engine Certification Office, FAA, Engine & Propeller Directorate, 1200 District Avenue, Burlington, MA 01803; phone: 781-238-7770; fax: 781-238-7199; email: philip.haberlen@faa.gov.

(2) Refer to MCAI, European Aviation Safety Agency, AD 2015-0105R1, dated August 18, 2015, for more information. You may examine the MCAI in the AD docket on the Internet at http://www.regulations.gov/#!documentDetail;D=FAA-2014-0561-0003.

(h) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Rolls-Royce plc (RR) Alert Non-Modification Service Bulletin No. RB.211-72-AJ035, Revision 2, dated August 10, 2015.

(ii) RR Service Bulletin No. RB.211-72-H754, including the Supplement, Revision 1, dated July 29, 2015.

(3) For RR service information identified in this AD, contact Rolls-Royce plc, Corporate Communications, P.O. Box 31, Derby, DE24 8BJ, United Kingdom; phone: 011-44-1332-242424; fax: 011-44-1332-249936; email: http://www.rolls-royce.com/contact/civil_team.jsp; Internet: https://customers.rolls-royce.com/public/rollsroycecare.

(4) You may view this service information at FAA, Engine & Propeller Directorate, 1200 District Avenue, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on February 12, 2016.
Colleen M. D'Alessandro,
Manager, Engine & Propeller Directorate, Aircraft Certification Service.

[FR Doc. 2016-05701 Filed 3-14-16; 8:45 am]

BILLING CODE 4910-13-P